DEPARTMENT OF HEALTH AND HUMAN SERVICES

Centers for Disease Control and Prevention

Fee Schedule for Reference Biological Standards and Biological Preparations

AGENCY: Centers for Disease Control and Prevention (CDC), Department of Health and Human Services (HHS).

ACTION: General notice.

SUMMARY: The Centers for Disease Control and Prevention (CDC), located within the Department of Health and Human Services (HHS) announces that HHS/CDC has reviewed and updated its fee schedule for reference biological standards and biological preparations required by OMB Circular A-25, User Charges. This notice also announces current contact information to obtain information on the availability of these products and the fees for these products.

DATES: These fees are effective January 2, 2015.

FOR FURTHER INFORMATION CONTACT: To obtain information on the current inventory of reference biological standards and biological preparations and the current fee schedule, please contact the Division of Scientific Resources, Centers for Disease Control and Prevention, 1600 Clifton Road NE., Mailstop C-17, Atlanta, Georgia 30329; telephone 404-639-3466. Someone will be available to answer your inquiry between 8:00 a.m. and 4:30 p.m. Eastern Time, Monday through Friday, except on Federal holidays.

SUPPLEMENTARY INFORMATION: On July 22, 2013 HHS/CDC published a Direct Final Rule (DFR) titled “Distribution of Reference Biological Standards and Biological Preparations (78 FR 43817). In the DFR, HHS/CDC updated the agency name, location, and contact information for persons interested in obtaining reference biological standards and biological preparations.

On August 5, 2013, HHS/CDC published a General Notice (78 FR 47319) to inform the public that HHS/CDC has reviewed and updated its fee schedule per the requirements in OMB Circular A-25 (User Charges) and to provide contact information to obtain a current inventory of products and an up-to-date fee schedule of charges (see FOR FURTHER INFORMATION CONTACT).

OMB Circular A-25 (User Charges) requires that agencies review user charges for agency programs every two years. This review should include any adjustment to reflect changes in costs or market value. HHS/CDC has conducted a review of the fees charged for reference biological standards and biological preparations. Based on this review, some reagents are being removed from our inventory because they are obsolete. No prices have increased or decreased at this time.

HHS/CDC prepares reference biological standards and biological preparations under the authority of 42 CFR Part 7. These regulations describe how private entities may obtain reference biological standards and biological preparations from HHS/CDC and how charges for these standards and preparations are determined. Persons interested in these products should contact the Division of Scientific Resources, Centers for Disease Control and Prevention, 1600 Clifton Road NE., Mailstop C-17, Atlanta, Georgia 30329; telephone 404-639-3466, for the current inventory and fee schedule. Due to the changing inventory of the unique biological standards or biological preparations, some of which are prepared only upon request, it is best to contact HHS/CDC to determine the availability of a particular product.

Dated: November 25, 2014.
Ron A. Otten,
Acting Deputy Associate Director for Science, Centers for Disease Control and Prevention.

[FR Doc. 2014-28226 Filed 11-28-14; 8:45 am]

BILLING CODE 4163-18-P